DEPARTMENT OF ENERGY

Federal Energy Regulatory Commission

[Docket No. CP00-456-000]

The Montana Power Company and 3698157 Canada Ltd.; Notice of Application To Transfer Natural Gas Act Section 3 Authorization and Presidential Permit

September 13, 2000.

On September 7, 2000, The Montana Power Company (MPC) and 3698157 Canada Ltd. (Canada Ltd.) filed an application pursuant to Section 3 of the Natural Gas Act (NGA) and Section 153 of the Commission's Regulations and Executive Order No. 10485, as amended by Executive Order No. 12038, seeking authorization to transfer MPC's existing NGA Section 3 authorization and Presidential Permit to Canada Ltd., all as more fully set forth in the application which is on file with the commission and which is open to the public for inspection. This filing may be viewed at http://www.ferc.fed.us/online/rims.htm (call 202-208-2222 for assistance).

Any questions regarding the applications should be directed to William A. Pascoe, Vice President of Gas Operations, 40 East Broadway, Butte, Montana, 59701, (406) 497-4212.

Specifically, MPC and Canada Ltd. request the Commission to issue an order: (1) transferring NGA Section 3 authorization to site, construct and operate facilities at Reagan, Alberta and Del Bonita, Montana for the importation of natural gas into the United States; and (2) authorizing the assignment of MPC's November 20, 1981 Presidential Permit to construct, operate and maintain facilities at the Reagan/Del Bonita import point.

The import facilities consist of a section of 4½-inch pipe extending from the interconnection with the Canadian-Montana Pipe Line Company system on the Northern side of the international boundary between the United States and Canada and includes approximately 1 mile of pipe extending in a southerly direction to a point of interconnection with The Montana Power Gas Company gathering facilities in Glacier County, Montana.

MPC and Canada Ltd. states that the requested transfer and assignment would facilitate the sale of facilities pursuant to a June 28, 2000 Agreement of Purchase and Sale and the transfer and assignment would not affect the underlying use of the facilities.

Any person desiring to be heard or to make any protest with reference to said application should on or before October 4, 2000, file with the Federal Energy Regulatory Commission, 888 First Street, NE., Washington, DC 20426, a motion to intervene or a protest in accordance with the requirements of the Commission's Rules of Practice and Procedure (18 CFR 385.214 and 385.211). All protests filed with the Commission will be considered by it in determining the appropriate action to be taken, but will not serve to make the protestants parties to the proceeding. Any person wishing to become a party to a proceeding or to participate as a party in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filings it makes with the Commission to every other intervenor in the proceeding, as well as an original and 14 copies with the Commission.

A person does not have to intervene, however, in order to have environmental comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its motion believes that a formal hearing is required, further notice of such hearing will be duly given.

Under the procedure herein provided for, unless otherwise advised, it will be unnecessary for MPC and Canada Ltd. to appear or be represented at the hearing.

Linwood A. Watson, Jr.,
Acting Secretary.

[FR Doc. 00-23977 Filed 9-18-00; 8:45 am]

BILLING CODE 6717-01-M